DEPARTMENT OF TRANSPORTATION

Surface Transportation Board

[Docket No. FD 35611]

Savage, Bingham & Garfield Railroad Company—Trackage Rights Exemption—Elgin, Joliet and Eastern Railway Company

Pursuant to a written trackage rights agreement dated March 5, 2012, Elgin, Joliet and Eastern Railway Company (CN),¹ has agreed to grant limited overhead trackage rights to Savage, Bingham & Garfield Railroad Company (SBG) over approximately 0.6 miles of rail line between milepost J 47.4 (south end of CN's Whiting Yard) and Bridge Number 631 at or near milepost J 46.8 on CN's Calumet Spur on CN's Matteson Subdivision in Whiting, Ind.

¹ Elgin, Joliet and Eastern Railway Company is an indirect subsidiary of Canadian National Railway Company.

The transaction is scheduled to be consummated on April 25, 2012, the effective date of the exemption (30 days after the exemption was filed).

The purpose of the transaction is to allow SBG to move freight for customers in CN's Whiting Yard on CN's Matteson Subdivision.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction. Petitions for stay must be filed by April 18, 2012 (at least 7 days before the exemption becomes effective).

An original and 10 copies of all pleadings, referring to Docket No. FD 35611, must be filed with the Surface Transportation Board, 395 E Street SW., Washington, DC 20423-0001. In addition, a copy of each pleading must be served on David T. Ralston, Jr., Foley & Lardner LLP, 3000 K Street NW., Washington, DC 20007.

Board decisions and notices are available on our Web site at “www.stb.dot.gov.”

Decided: April 3, 2012.
By the Board, Rachel D. Campbell, Director, Office of Proceedings.
Jeffrey Herzig,
Clearance Clerk.

[FR Doc. 2012-8804 Filed 4-10-12; 8:45 am]

BILLING CODE 4915-01-P